DEPARTMENT OF THE TREASURY

Office of the Comptroller of the Currency

12 CFR Chapter I

[Docket ID FFIEC-2014-0001]

FEDERAL RESERVE SYSTEM

12 CFR Chapter II

[Docket No. R-1510]

FEDERAL DEPOSIT INSURANCE CORPORATION

[12 CFR Chapter III]

Regulatory Publication and Review Under the Economic Growth and Regulatory Paperwork Reduction Act of 1996

AGENCY: Office of the Comptroller of the Currency (“OCC”), Treasury; Board of Governors of the Federal Reserve System (“Board”); and Federal Deposit Insurance Corporation (“FDIC”).

ACTION: Notice of outreach meeting.

SUMMARY: The OCC, Board, and FDIC (together “we” or “Agencies”) announce the sixth and final outreach meeting on the Agencies' interagency process to review their regulations under the Economic Growth and Regulatory Paperwork Reduction Act of 1996 (“EGRPRA”).

DATES: An outreach meeting will be held in the Washington, DC area at the FDIC's L. William Seidman Center at Virginia Square in Arlington, Virginia, on Wednesday December 2, 2015, beginning at 9:00 a.m. Eastern Standard Time (EST). Online registrations will be accepted through November 30, 2015, or until all seats are filled, whichever is earlier. If seats are available after the close of online registration, individuals may register in person at the L. William Seidman Center on the day of the meeting.

ADDRESSES: The Agencies will hold the December 2, 2015, outreach meeting at the FDIC's L. William Seidman Center at Virginia Square, 3501 Fairfax Drive, Arlington, VA 22226. Live video of this meeting will be streamed at: http://egrpra.ffiec.gov/. Participants attending in person should register at: http://egrpra.ffiec.gov/outreach/outreach-index.html.

In addition, to enhance participation, interested persons anywhere in the country will have the opportunity to view and participate in the meeting online using their computers. Members of the public watching online will be able to submit written comments at any time during the meeting using the text chat feature. In addition to the online option, a toll-free telephone number (800) 857-9751 (Participant passcode: 6040376) is available for members of the public who would like only to listen to the meeting, and who may choose later to submit written comments. Information regarding these additional participation options is described in the meeting details section for the Washington, DC area meeting at: http://egrpra.ffiec.gov/outreach/outreach-meeting-details-dc.html.

Any interested individual may submit comments through the EGRPRA Web site during open comment periods at: http://egrpra.ffiec.gov/submit-comment/submit-comment-index.html. On this site, click “Submit a Comment” and follow the instructions. Alternatively, comments also may be submitted through the Federal eRulemaking Portal “Regulations.gov” at: http://www.regulations.gov. Enter “Docket ID FFIEC-2014-0001” in the Search Box, click “Search,” and click “Comment Now.” Those who wish to submit their comments by an alternate means may do so as indicated by each agency below.

OCC

The OCC encourages commenters to submit comments through the Federal eRulemaking Portal, Regulations.gov, in accordance with the previous paragraph. Alternatively, comments may be emailed to regs.comments@occ.treas.gov or sent by mail to Legislative and Regulatory Activities Division, Office of the Comptroller of the Currency, Mail Stop 9W-11, 400 7th Street SW., Washington, DC 20219. Comments also may be faxed to (571) 465-4326 or hand delivered or sent by courier to 400 7th Street SW., Washington, DC 20219. For comments submitted by any means other than Regulations.gov, you must include “OCC” as the agency name and “Docket ID FFIEC-2014-0001” in your comment.

In general, the OCC will enter all comments received into the docket and publish them without change on Regulations.gov. Comments received, including attachments and other supporting materials, as well as any business or personal information you provide, such as your name and address, email address, or phone number, are part of the public record and subject to public disclosure. Therefore, please do not include any information with your comment or supporting materials that you consider confidential or inappropriate for public disclosure.

You may inspect and photocopy in person all comments received by the OCC at 400 7th Street SW., Washington, DC 20219. For security reasons, the OCC requires that visitors make an appointment to inspect or photocopy comments. You may make an appointment by calling (202) 649-6700 or, for persons who are deaf or hard of hearing, TTY (202) 649-5597. Upon arrival, visitors will be required to present valid government-issued photo identification and submit to a security screening.

Board

The Board encourages commenters to submit comments regarding the Board's regulations by any of the following methods:

• Agency Web site: http://www.federalreserve.gov/apps/foia/proposedregs.aspx. Follow the instructions for submitting comments on the Agency Web site.

• Federal eRulemaking Portal, in accordance with the directions above.

• Email: regs.comments@federalreserve.gov. Include “EGRPRA” and Docket No. R-1510 in the subject line of the message.

• FAX: (202) 452-3819.

• Mail: Robert deV. Frierson, Secretary, Board of Governors of the Federal Reserve System, 20th Street and Constitution Avenue NW., Washington, DC 20551.

In general, the Board will enter all comments received into the docket and publish them without change on the Board's public Web site, www.federalreserve.gov; Regulations.gov; and http://egrpra.ffiec.gov. Comments received, including attachments and other supporting materials, as well as any business or personal information you provide, such as your name and address, email address, or phone number, are part of the public record and subject to public disclosure. Therefore, please do not enclose any information with your comment or supporting materials that you consider confidential or inappropriate for public disclosure.

You may inspect and photocopy in person all comments received by the Board in Room 3515, 1801 K Street NW. (between 18th and 19th Street NW.), Washington, DC 20006, between 9:00 a.m. and 5:00 p.m. on weekdays. For security reasons, the Board requires that visitors make an appointment to inspect comments. You may make an appointment by calling (202) 452-3000. Upon arrival, visitors will be required to present valid government-issued photo identification and submit to a security screening.

FDIC

The FDIC encourages commenters to submit comments through the Federal eRulemaking Portal, “Regulations.gov,” in accordance with the directions above. Alternatively, you may submit comments by any of the following methods:

• Agency Web site: http://www.fdic.gov/regulations/laws/federal. Follow instructions for submitting comments on the Agency Web site.

• Email: Comments@FDIC.gov. Include “EGRPRA” in the subject line of the message.

• Mail: Robert E. Feldman, Executive Secretary, Attention: Comments, Federal Deposit Insurance Corporation, 550 17th Street NW., Washington, DC 20429.

• Hand Delivery/Courier: Guard station at the rear of the 550 17th Street Building (located on F Street) on business days between 7:00 a.m. and 5:00 p.m. (EDT).

The FDIC will post all comments received to http://www.fdic.gov/regulations/laws/federal without change, including any personal information provided. Comments may be inspected and photocopied in the FDIC Public Information Center, 3501 North Fairfax Drive, Room E-1002, Arlington, VA 22226, between 9:00 a.m. and 5:00 p.m. (EST) on business days. Paper copies of public comments may be ordered from the Public Information Center by calling (877) 275-3342.

FOR FURTHER INFORMATION CONTACT:

OCC: Heidi M. Thomas, Special Counsel, (202) 649-5490; for persons who are deaf or hard of hearing, TTY (202) 649-5597.

Board: Kevin Wilson, Financial Analyst, (202) 452-2362; Claudia Von Pervieux, Counsel (202) 452-2552; for persons who are deaf or hard of hearing, TTY (202) 263-4869.

FDIC: Ruth R. Amberg, Assistant General Counsel, (202) 898-3736; for persons who are deaf or hard of hearing, TTY 1-800-925-4618.

SUPPLEMENTARY INFORMATION: EGRPRA ¹ directs the Agencies, along with the Federal Financial Institutions Examination Council (Council), not less frequently than once every ten years, to conduct a review of their regulations to identify outdated or otherwise unnecessary regulations imposed on insured depository institutions. As part of this review, the Agencies are holding a series of six outreach meetings to provide an opportunity for bankers, consumer and community groups, and other interested persons to present their views directly to senior management and staff of the Agencies on any of 12 specific categories of the Agencies' regulations, as further described below. The Agencies held the first of these outreach meetings on December 2, 2014, in Los Angeles, California; the second outreach meeting on February 4, 2015, in Dallas, Texas; the third outreach meeting on May 4, 2015, in Boston, Massachusetts; the fourth outreach meeting, which focused on rural banks and their communities, in Kansas City, Missouri on August 4, 2015; and the fifth outreach meeting on October 19, 2015 in Chicago, Illinois. Additional details, including videos and transcripts of the first five outreach meetings, are available on the EGRPRA Web site at: http://egrpra.ffiec.gov/outreach/outreach-index.html.

¹ Public Law 104-208 (1996), 110 Stat. 3009-414, codified at 12 U.S.C. 3311.

The final outreach meeting will be held on December 2, 2015, in the Washington, DC area at the FDIC's L. William Seidman Center at Virginia Square in Arlington, Virginia, and will be streamed live at: http://egrpra.ffiec.gov/. FDIC Chairman Martin J. Gruenberg, Comptroller of the Currency Thomas J. Curry, and Federal Reserve Board Governor Daniel K. Tarullo are scheduled to attend, along with senior staff members of the Agencies. The meeting will consist of panels of bankers and consumer and community groups who will present particular issues. There will be limited time after each panel for comments from meeting attendees. In addition, there will be a session at the end of the meeting during which audience members may present views on any of the regulations under review. The Agencies reserve the right to limit the time of individual commenters, if needed, in order to accommodate the number of persons desiring to speak.

Comments made by panelists, audience members, and online participants at this meeting will be reflected in the public comment file. Audience members who do not wish to comment orally may submit written comments at the meeting. As noted above, any interested person may submit comments through the EGRPRA Web site during open comment periods at: http://egrpra.ffiec.gov/submit-comment/submit-comment-index.html or directly to the Agencies through any of the other manners specified above.

All participants attending in person should register for the Washington, DC area outreach meeting at: http://egrpra.ffiec.gov/outreach/outreach-index.html. Because of space constraints, on-site attendance will be limited. Online registrations will be accepted through November 30, 2015, or until all seats are filled, whichever is earlier. If seats are available, individuals may register in person at the L. William Seidman Center on the day of the meeting. Individuals do not need to register to view the live-stream broadcast.

We note that the meeting will be video-recorded and publicly webcast in order to increase education and outreach. By participating in person at the meeting, you consent to appear in such recordings.

Additional Background on EGRPRA

Section 2222 of EGRPRA directs the Agencies, along with the Council, to conduct a review of their regulations not less frequently than once every ten years to identify outdated or otherwise unnecessary regulatory requirements imposed on insured depository institutions. In conducting this review, the Agencies are required to categorize their regulations by type and, at regular intervals, provide notice and solicit public comment on categories of regulations, requesting commenters to identify areas of regulations that are outdated, unnecessary, or unduly burdensome. The statute requires the Agencies to publish in the Federal Register a summary of the comments received, identifying significant issues raised and commenting on these issues. The statute also directs the Agencies to eliminate unnecessary regulations to the extent that such action is appropriate. Finally, section 2222 requires the Council, of which the Agencies are members, to submit a report to Congress that summarizes any significant issues raised in the public comments and the relative merits of such issues. The report also must include an analysis of whether the Agencies are able to address the regulatory burdens associated with such issues by regulation or whether these burdens must be addressed by legislative action.

For purposes of this review, the Agencies have grouped our regulations into 12 categories: Applications and Reporting; Banking Operations; Capital; Community Reinvestment Act; Consumer Protection; Directors, Officers and Employees; International Operations; Money Laundering; Powers and Activities; Rules of Procedure; Safety and Soundness; and Securities. On June 4, 2014, we published a Federal Register document announcing the start of the EGRPRA review process and also asking for public comment on three of these categories—Applications and Reporting; Powers and Activities; and International Operations regulations.² In that document we published a chart, listing the Agencies' regulations in the 12 categories included in the EGRPRA review. The comment period for this Federal Register document closed on September 2, 2014. On February 13, 2015, we published a Federal Register document asking for public comment on three additional categories—Banking Operations; Capital; and the Community Reinvestment Act.³ The comment period for the second Federal Register document closed on May 14, 2015. On June 5, 2015, the Agencies published a third Federal Register document asking for public comment on three additional categories—Consumer Protection; Directors, Officers and Employees; and Money Laundering.⁴ This third Federal Register document announced that the Agencies' expanded the scope of the EGRPRA review to cover newly issued regulations. The comment period for the third document closed on September 3, 2015. Before the end of the year, the Agencies intend to issue the final Federal Register document, requesting comment on regulations in the last three categories—Rules of Procedure; Safety and Soundness; and Securities, as well as on any other final rules not covered by one of the prior Federal Register documents. In addition, to be as inclusive as possible, the Agencies will invite comment during the comment period for the fourth document on any Agency rule that is issued in final form before the end of the year. Finally, as noted in prior documents, the Agencies will continue to accept comments on any rules included in the prior Federal Register documents for which we have already sought comment during the open comment period in the final Federal Register document.

² 79 FR 32172.

³ 80 FR 7980.

⁴ 80 FR 32046.

Dated: November 18, 2015.
Thomas J. Curry,
Comptroller of the Currency.
By order of the Board of Governors of the Federal Reserve System, November 19, 2015.
Robert deV. Frierson,
Secretary of the Board.
Dated: November 18, 2015.
Robert E. Feldman,
Executive Secretary, Federal Deposit Insurance Corporation.

[FR Doc. 2015-30247 Filed 11-27-15; 8:45 am]

BILLING CODE 4810-33-P; 6210-01-P; 6714-01-P